INTERNATIONAL TRADE COMMISSION

[Investigation Nos. 701-TA-475 and 731-TA-1177 (Second Review)]

Aluminum Extrusions From China

Determinations

On the basis of the record ¹ developed in the subject five-year reviews, the United States International Trade Commission (“Commission”) determines, pursuant to the Tariff Act of 1930 (“the Act”), that revocation of the antidumping and countervailing duty orders on aluminum extrusions from China would be likely to lead to continuation or recurrence of material injury to an industry in the United States within a reasonably foreseeable time.

¹ The record is defined in § 207.2(f) of the Commission's Rules of Practice and Procedure (19 CFR 207.2(f)).

Background

The Commission instituted these reviews on March 1, 2022 (87 FR 11470) and determined on June 6, 2022 that it would conduct expedited reviews (87 FR 57518, September 20, 2022).

The Commission made these determinations pursuant to section 751(c) of the Act (19 U.S.C. 1675(c)). It completed and filed its determinations in these reviews on October 17, 2022. The views of the Commission are contained in USITC Publication 5375 (October 2022), entitled Aluminum Extrusions from China: Investigation Nos. 701-TA-475 and 731-TA-1177 (Second Review).

By order of the Commission.
Issued: October 17, 2022.
Jessica Mullan,
Attorney Advisor.

[FR Doc. 2022-22865 Filed 10-20-22; 8:45 am]

BILLING CODE 7020-02-P